COMMODITY FUTURES TRADING COMMISSION

Request for Nominations for the Energy Infrastructure Subcommittee and the Role of Metals Markets in Transitional Energy Subcommittee Under the Energy and Environmental Markets Advisory Committee

AGENCY: Commodity Futures Trading Commission.

ACTION: Notice.

SUMMARY: The Commodity Futures Trading Commission (CFTC or Commission) is requesting nominations for membership on the Energy Infrastructure Subcommittee (Infrastructure Subcommittee) and the Role of Metals Markets in Transitional Energy Subcommittee (Metals Market Subcommittee) under the Energy and Environmental Markets Advisory Committee (EEMAC). The EEMAC is an advisory committee established by the Dodd-Frank Wall Street Reform and Consumer Protection Act.

DATES: The deadline for submission of nominations is December 5, 2022.

ADDRESSES: Nominations should be emailed to EEMAC_Submissions@cftc.gov or sent by post to Lauren Fulks, EEMAC Secretary, Commodity Futures Trading Commission, 2600 Grand Boulevard, Suite 200, Kansas City, MO 64108. Please use the title “EEMAC Subcommittees” for any nominations you submit.

FOR FURTHER INFORMATION CONTACT: Lauren Fulks, EEMAC Secretary, at (816) 787-6297 or email EEMAC_Submissions@cftc.gov.

SUPPLEMENTARY INFORMATION: The Infrastructure Subcommittee was established to provide a report to the EEMAC that will evaluate what is required to ensure the energy markets in the United States remain resilient despite the numerous strains on the system globally. Topics and issues this subcommittee may consider in this regard include, but are not limited to, the following:

• Given the importance of predictable supply and reliable distribution of energy to effective energy derivatives markets, identifying the state of infrastructure of various energy markets, including but not limited to, oil, natural gas, and electricity, and examining how investment in infrastructure in recent years has contributed to the current state of infrastructure;

• Examining how the current state of energy infrastructure has impacted market fundamentals, such as supply and demand, price discovery, price volatility, and market participation;

• Identifying key issues facing energy derivatives markets that are related to or a result of energy market fundamentals and dynamics; and

• Examining if and how financial regulation can address current issues in the energy derivatives markets.

The Metals Market Subcommittee was established to provide a report to the EEMAC to examine the role of critical metals in transitional energy sources and their potential impact on derivatives markets. Within this charge, this subcommittee may consider, but is not limited to, the following issues and topics:

• Identifying metals that are used as components in transitional energy sources and their related derivatives markets, or lack thereof;

• Examining how the increased demand for certain metals impact existing derivatives markets;

• Examining the issues around creating new derivatives markets for metals that will be integral in transitional energy; and

• Examining if and how financial regulation should change given the increased demand on and need for metals derivatives markets.

The subcommittees will provide their reports directly to the EEMAC and will not provide their reports directly to the Commission. The subcommittees have no authority to make decisions on behalf of the EEMAC, and no determination of fact or policy will be made by the subcommittees on behalf of the Commission.

Subcommittee members will generally serve as representatives and provide advice reflecting the views of diverse stakeholder organizations and entities within the derivatives and financial markets. The subcommittees may also include regular government employees when doing so furthers their purposes. It is anticipated that the subcommittees will hold at least three in-person or telephonic meetings. Subcommittee members serve at the pleasure of the Commission. Subcommittee members do not receive compensation or honoraria for their services, and they are not reimbursed for travel and per diem expenses.

Subcommittee members will include individuals who are Members or Associate Members of the EEMAC and/or other individuals. For these other individuals, the Commission seeks nominations of individuals from a wide range of perspectives, including from industry, academia, the government, and public interest. To advise the EEMAC effectively, subcommittee members must have a high level of expertise and experience with: the energy and/or metals markets, the Commodity Exchange Act, Commission regulations, and guidance thereunder. To the extent practicable, and consistent with these objectives, the Commission will strive to include members reflecting wide ethnic, racial, gender, and age representation.

The Commission invites the submission of nominations for membership on the subcommittees. Each nomination submission should include the proposed member's name, title, organization affiliation, address, email address, and telephone number, as well as information that supports the individual's qualifications to serve on a subcommittee. The submission should also include the name, email address, and telephone number of the person nominating the proposed subcommittee member. Self-nominations are acceptable.

Submission of a nomination is not a guarantee of selection as a member of a subcommittee. The Commission will identify members for the subcommittees based on Commissioners' and Commission staff's professional knowledge of the energy and metals markets, consultation with knowledgeable persons outside of the CFTC, and requests received from organizations. The Commission, by vote, will authorize members to serve on the subcommittees.

Authority: 5 U.S.C. app. II.

Dated: November 16, 2022.
Robert Sidman,
Deputy Secretary of the Commission.

[FR Doc. 2022-25256 Filed 11-18-22; 8:45 am]

BILLING CODE 6351-01-P